LEGAL SERVICES CORPORATION

Notice of Availability of FY 2000 Competitive Grant Funds for Chautauqua County, New York (Service Area NY-5)

AGENCY: Legal Services Corporation.

ACTION: Solicitation of Proposals for the Provision of Civil Legal Services for Chautauqua County, New York (NY-5).

SUMMARY: The Legal Services Corporation (LSC or Corporation) is the national organization charged with administering federal funds provided for civil legal services to the poor. Congress has adopted legislation requiring LSC to utilize a system of competitive bidding for the award of grants and contracts.

The Corporation hereby announces that it is reopening competition for FY 2000 competitive grant funds and is soliciting grant proposals from interested parties who are qualified to provide effective, efficient and high quality civil legal services to the eligible client population in service area NY-5 in New York. Two grant terms will be funded. The tentative date of the first grant term is July 1, 2000 through December 31, 2000 (six months). The tentative grant amount for the first grant term is $76,760. The second grant term is for calendar year 2001 (twelve months). The exact amount of congressionally appropriated funds and the date and terms of availability for calendar year 2001 are not known, although it is anticipated that the funding amount will be similar to calendar year 2000 funding, which is $153,518.

DATES: The Request for Proposals (RFP) will be available after February 18, 2000. A Notice of Intent to Compete is due by April 3, 2000. Grant proposals must be received at LSC offices by 5 p.m. EDT, April 28, 2000.

ADDRESSES: Legal Services Corporation—Competitive Grants, 750 First Street NE., 10th Floor, Washington, DC 20002-4250.

FOR FURTHER INFORMATION CONTACT: Reginald Haley, Office of Program Performance, (202) 336-8827.

SUPPLEMENTARY INFORMATION: LSC is seeking proposals from non-profit organizations that have as a purpose the furnishing of legal assistance to eligible clients, and from private attorneys, groups of private attorneys or law firms, state or local governments, and substate regional planning and coordination agencies which are composed of substate areas and whose governing boards are controlled by locally elected officials.

The solicitation package, containing the grant application, guidelines, proposal content requirements and specific selection criteria, is available by contacting the Corporation by e-mail at speights@.lsc.gov, by phone at 202-336-8906; or by FAX at 202 336-7272. LSC will not FAX the solicitation package to interested parties.

Issue Date: February 9, 2000.
Michael A. Genz,
Director, Office of Program Performance.

[FR Doc. 00-3520 Filed 2-17-00; 8:45 am]

BILLING CODE 7050-01-P